DEPARTMENT OF STATE

[Public Notice 6000]

Bureau of Educational and Cultural Affairs Office of Citizen Exchanges; Amendment to Original RFGP (Open Competition Seeking Professional Exchange Programs in Africa, East Asia, Europe, the Near East, North Africa, South Central Asia, and the Western Hemisphere)

SUMMARY: The United States Department of State, Bureau of Educational and Cultural Affairs, announces revisions to the original RFGP announced in the Federal Register on Tuesday, November 20, 2007 (Federal Register Volume 72, Number 223).

The due date for this competition is revised from February 15, 2007 to February 15, 2008.

All other terms and conditions remain the same.

ADDITIONAL INFORMATION: Interested organizations should contact Brent Beemer, Office of Citizen Exchanges, Bureau of Educational and Cultural Affairs, U.S. Department of State, ECA/PE/C, SA-44, Rm 220, 301 4th Street, SW., Washington, DC 20547, prior to February 15, 2008.

Dated: November 27, 2007.
C. Miller Crouch,
Acting Assistant Secretary, Bureau of Educational and Cultural Affairs, Department of State.

[FR Doc. E7-23405 Filed 11-30-07; 8:45 am]

BILLING CODE 4710-05-P